FEDERAL COMMUNICATIONS COMMISSION

Public Information Collection Approved by Office of Management and Budget

AGENCY: Federal Communications Commission.

ACTION: Notice.

SUMMARY: The Federal Communications Commission (FCC) has received Office of Management and Budget (OMB) approval for the following public information collection pursuant to the Paperwork Reduction Act of 1995, Public Law 104-13.

DATES: Written comments should be submitted on or before May 13, 2005. If you anticipate that you will be submitting comments, but find it difficult to do so within the period of time allowed by this notice, you should advise the contacts listed below as soon as possible.

ADDRESSES: Kristy L. LaLonde, Office of Management and Budget Desk Officer, Room 10234 NEOB, 725 17th Street, NW., Washington, DC 20503, (202) 395-3087, via the Internet to Kristy_L. LaLonde@omb.eop.gov, via fax at (202) 395-5167; or Les Smith, Federal Communications Commission, 445 12th Street, SW., Room 1-A804, Washington, DC 20554, (202) 418-0217 or Leslie.Smith@fcc.gov.

Paperwork Reduction

OMB Control No: 3060-0390.

Expiration Date: March 31, 2008.

Title: Broadcast Station Annual Employment Report, FCC 395-B.

Form No: 395-B.

Respondents: Licensees and permittees of broadcast stations.

Number of Respondents: 14,000.

Total Annual Burden: 12,320 hours.

Total Annual Cost: 0.

Terms of Clearance: FCC Form 395-B, Broadcast Station Annual Employment Report, collects information on full-time paid employees. In order to reduce reporting and recordkeeping burdens, it is intentionally the same as the workforce profile collected by the U.S. Equal Employment Opportunity Commission, Employer Report Form (EEO-1). Any changes to this EEOC EEO-1 form should be reflected in changes to FCC form 395-B.

Federal Communications Commission.
Marlene H. Dortch,
Secretary.

[FR Doc. 05-7348 Filed 4-12-05; 8:45 am]

BILLING CODE 6712-01-P